ENVIRONMENTAL PROTECTION AGENCY

[FRL-9992-03-OW]

Notice of Availability of the Deepwater Horizon Oil Spill Louisiana Trustee Implementation Group Draft Supplemental Restoration Plan and Environmental Assessment for the Lake Charles Science Center and Educational Complex Project Modification

AGENCY: Environmental Protection Agency (EPA).

ACTION: Notice of availability; request for public comments.

SUMMARY: On July 20, 2018, the Environmental Protection Agency (EPA) published a Notice of Availability of the Deepwater Horizon Oil Spill Louisiana Trustee Implementation Group (Louisiana TIG) Final Restoration Plan and Environmental Assessment #2: Provide and Enhance Recreational Opportunities (Final RP/EA #2). The Louisiana TIG is considering modifications to the original Lake Charles Science Center and Educational Complex (Lake Charles SCEC) project described in the Final RP/EA #2. The modifications being considered include collocating the Lake Charles SCEC with the Lake Charles Children's Museum (LCCM) as part of the shared Port Wonder facility on the north shore of Lake Charles. In accordance with the Oil Pollution Act of 1990 (OPA) and the National Environmental Policy Act (NEPA), the federal and state natural resource trustee agencies for the Louisiana TIG prepared a Draft Supplemental Restoration Plan and Environmental Assessment for the Lake Charles SCEC Project Modification (Draft Supplemental RP/EA). The Draft Supplemental RP/EA evaluates modifications to the Lake Charles SCEC project and alternatives considered by the Louisiana TIG under criteria set forth in the OPA Natural Resource Damage Assessment (NRDA) regulations and evaluates their environmental effects in accordance with the NEPA. The modifications under consideration to the Lake Charles SCEC project are consistent with the restoration alternatives selected in the Deepwater Horizon Oil Spill Final Programmatic Damage Assessment and Restoration Plan/Programmatic Environmental Impact Statement (PDARP/PEIS). The purpose of this notice is to inform the public of the availability of the Draft Supplemental RP/EA and to seek public comment on the document.

DATES: The Louisiana TIG will consider public comments received on or before May 20, 2019.

Public Meeting: The Louisiana TIG will also take verbal comments at a public meeting that will be held at the Lake Charles Civic Center, Contraband Room, on May 8, 2019; Open House 5:30 p.m., Meeting 6:00 p.m.; 900 Lakeshore Drive, Lake Charles, LA 70601.

ADDRESSES: Obtaining Documents: You may download the Draft Supplemental RP/EA at any of the following sites:

• http://www.gulfspillrestoration.noaa.gov

• http://www.la-dwh.com

Alternatively, you may request a CD of the Draft Supplemental RP/EA (see FOR FURTHER INFORMATION CONTACT). You may also view the document at any of the public facilities listed at http://www.gulfspillrestoration.noaa.gov.

Submitting Comments: You may submit comments on the Draft Supplemental RP/EA by one of the following methods:

• Via the Web: http://www.gulfspillrestoration.noaa.gov/restoration-areas/louisiana

• Via U.S. Mail: U.S. Fish and Wildlife Service, P.O. Box 29649, Atlanta, GA 30345

• In Person: Verbal comments may be provided at the public meeting on May 8, 2019

Once submitted, comments cannot be edited or withdrawn. The Louisiana TIG may publish any comment received on the document. Do not submit electronically any information you consider to be Confidential Business Information (CBI) or other information for which disclosure is restricted by statute. Multimedia submissions (audio, video, etc.) must be accompanied by a written comment. The written comment is considered the official comment and should include discussion of all points you wish to make. The Louisiana TIG will generally not consider comments or comment contents located outside of the primary submission (i.e. on the web, cloud, or other file sharing system). Please be aware that your entire comment, including your personally identifiable information, will become part of the public record. Please note that mailed comments must be postmarked on or before the comment deadline of 30 days following publication of this notice to be considered.

FOR FURTHER INFORMATION CONTACT:

• Louisiana—Joann Hicks, 225-342-5477

• EPA—Tim Landers, 202-566-2231

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest off shore oil spill in U.S. history, discharging millions of barrels of oil over a period of 87 days.

The Trustees conducted the natural resource damage assessment for the Deepwater Horizon oil spill under the Oil Pollution Act of 1990 (33 United States Code 2701 et seq.). Under the OPA, federal and state agencies act as trustees on behalf of the public to assess natural resource injuries and losses and to determine the actions required to compensate the public for those injuries and losses. The OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The Deepwater Horizon oil spill Trustees are:

• U.S. Environmental Protection Agency (EPA);

• U.S. Department of the Interior (DOI), as represented by the National Park Service, U.S. Fish and Wildlife Service, and Bureau of Land Management;

• National Oceanic and Atmospheric Administration (NOAA), on behalf of the U.S. Department of Commerce;

• U.S. Department of Agriculture (USDA);

• State of Louisiana Coastal Protection and Restoration Authority (CPRA), Oil Spill Coordinator's Office (LOSCO), Department of Environmental Quality (LDEQ), Department of Wildlife and Fisheries (LDWF), and Department of Natural Resources (LDNR);

• State of Mississippi Department of Environmental Quality;

• State of Alabama Department of Conservation and Natural Resources and Geological Survey of Alabama;

• State of Florida Department of Environmental Protection and Fish and Wildlife Conservation Commission; and

• State of Texas Parks and Wildlife Department, General Land Office, and Commission on Environmental Quality.

On April 4, 2016, the Trustees reached and finalized a settlement of their natural resource damage claims with BP in a Consent Decree approved by the United States District Court for the Eastern District of Louisiana. Pursuant to that Consent Decree, restoration projects in the Louisiana Restoration Area are now chosen and managed by the Louisiana TIG. The Louisiana TIG is composed of the following Trustees: CPRA, LOSCO, LDEQ, LDWF, LDNR, EPA, DOI, NOAA, USDA.

Background

The original scope and design of the Lake Charles SCEC project were evaluated in the Final RP/EA #2, which was published on July 20, 2018. As proposed in the Final RP/EA #2, the Lake Charles SCEC project would enhance recreational opportunities by providing indoor and outdoor public visitation and outreach components, including fisheries extension, access, outreach, and education to the public. Following release of the Final RP/EA #2, the City of Lake Charles requested that the Louisiana TIG consider collocating the Lake Charles SCEC with the City's planned LCCM. The Louisiana TIG prepared the Draft Supplemental RP/EA to evaluate modifications to the Lake Charles SCEC project and consider alternatives, consistent with the purpose and need of the original project. Alternatives considered in the Draft Supplemental RP/EA include the collocation of the Lake Charles SCEC and LCCM with variations of indoor and outdoor components to support recreational and educational opportunities. The Louisiana TIG prepared the Draft Supplemental RP/EA to inform the public about potential modifications to the Lake Charles SCEC project and to seek public comment.

Next Steps

The public is encouraged to review and comment on the Draft Supplemental RP/EA. A public meeting is scheduled to also help facilitate the public review and comment process. A summary of comments received on the Draft Supplemental RP/EA and the Louisiana TIG's responses, where applicable, will be included in the Final Supplemental RP/EA. Public comments on the Draft Supplemental RP/EA will inform the Louisiana TIG's decision on whether to select the Lake Charles SCEC project, as modified, in the Final Supplemental RP/EA.

Administrative Record

The documents comprising the Administrative Record for the Draft Supplemental RP/EA can be viewed electronically at https://www.doi.gov/deepwaterhorizon/adminrecord.

Authority

The authority for this action is the Oil Pollution Act of 1990 (33 U.S.C. 2701 et seq.), its implementing NRDA regulations found at 15 CFR part 990, and the NEPA (42 U.S.C. 4321 et seq.).

Dated: April 2, 2019.
Benita Best-Wong,
Deputy Assistant Administrator, Office of Water.

[FR Doc. 2019-07441 Filed 4-18-19; 8:45 am]

BILLING CODE 6560-50-P